DEPARTMENT OF DEFENSE

Office of Secretary

[DOD-2007-OS-0070]

Privacy Act of 1974; Systems of Records

AGENCY: Defense Threat Reduction Agency, DOD.

ACTION: Notice to add a system of records.

SUMMARY: The Defense Threat Reduction Agency is proposing to add a system of records to its inventory of record systems subject to the Privacy Act of 1974 (5 U.S.C. 552a), as amended.

DATES: This action will be effective without further notice on August 8, 2007 unless comments are received that would result in a contrary determination.

ADDRESSES: Send comments to the Freedom of Information and Privacy Office, Defense Threat Reduction Agency, 8725 John J. Kingman Road, Fort Belvoir, VA 22060-6201.

FOR FURTHER INFORMATION CONTACT: Ms. Brenda Carter at (703) 767-1771.

SUPPLEMENTARY INFORMATION: The Defense Threat Reduction Agency notices for systems of records subject to the Privacy Act of 1974 (5 U.S.C. 552a), as amended, have been published in the Federal Register and are available from the address above.

The proposed system report, as required by 5 U.S.C. 552a(r) of the Privacy Act of 1974, as amended, was submitted on June 29, 2007, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: July 2, 2007.
C.R. Choate,
Alternate OSD Federal Register Liaison Officer, Department of Defense.

HDTRA 023

System name:

Reasonable Accommodation Program.

System location:

Equal Opportunity Office, Defense Threat Reduction Agency, 8725 John J. Kingman Road, Fort Belvoir, VA 22060-6201.

Categories of individuals covered by the system:

All civilian employees and applicants for employment with the Defense Threat Reduction Agency (DTRA) at any of its duty locations.

Categories of records in the system:

Employee's or applicant's name, occupational series and grade, operating division/function, office location and address, office telephone numbers, disability or medical condition, reasonable accommodation (RA) requested, explanation of how RA would assist the applicant in the application process and in the performance of his/her job, deciding official's name and title, essential duties of the position, information relating to an individual's capability to satisfactorily perform the duties of the position he/she is either applying for or presently holds, relevant medical information, estimated cost of accommodation, action by deciding official, employee/applicant, deciding official, and health care practitioner signatures, social worker, or rehabilitation counselor, medical documentation and supporting documents relating to reasonable accommodation.

Authority for maintenance of the system:

Rehabilitation Act of 1973 (Section 501 and 505); 29 Code of Federal Regulations (CFR) Part 1630; E.O. 13163; E.O. 13164, EEOC Policy; and DTRA 5505.3, DTRA Reasonable Accommodation Instruction.

Purpose(s):

To provide reasonable accommodation(s) for individuals with known physical and mental impairments who have applied for employment or are employees of the DTRA.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ that appear at the beginning of the DTRA's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders and electronic storage media.

Retrievability:

Individual's name and year and log number of accommodation request.

Safeguards:

Access is limited to the Equal Opportunity staff, and agency command surgeon. Case records are maintained in locked security containers. Automated records are controlled by limiting physical access to terminals and by the use of passwords. Work areas are sight controlled during normal duty hours. Security guards and an intrusion alarm system protect buildings.

Retention and disposal:

Retained in the office for 2 years after completion, and then destroyed.

System manager(s) and address:

Equal Opportunity Office, Defense Threat Reduction Agency, 8725 John J. Kingman Road, Fort Belvoir, VA 22060-6201.

Notification procedure:

Individuals seeking to determine whether this system of records contains information about themselves should address written inquiries to the Equal Opportunity Office, Defense Threat Reduction Agency, 8725 John J. Kingman Road, Fort Belvoir, VA 22060-6201.

Request should contain individual's name, address, and proof of identity (photo identification or must provide a notarized statement or an unsworn declaration in accordance with 28 U.S.C. 1746, in the following format:

If executed outside the United States: I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).

Record access procedures:

Individuals seeking to access records about themselves contained in this system of records should address written inquiries to the Equal Opportunity Office, Defense Threat Reduction Agency, 8725 John J. Kingman Road, Fort Belvoir, VA 22060-6201.

Request should contain individual's name, address, and proof of identity (photo identification or must provide a notarized statement or an unsworn declaration in accordance with 28 U.S.C. 1746, in the following format:

If executed outside the United States: I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).

Contesting record procedures:

The DTRA rules for contesting contents are published in 32 CFR part 318, or may be obtained from the System Manager.

Record source categories:

Individual, DTRA records and reports, DTRA employees, witnesses, informants, and other sources providing or containing pertinent information.

Exemptions claimed for the system:

None.

[FR Doc. E7-13261 Filed 7-6-07; 8:45 am]

BILLING CODE 5001-06-P